DEPARTMENT OF THE INTERIOR

Fish and Wildlife Service

Notice of Availability; Travis County, TX; Golden-cheeked Warbler

Notice of Availability of an Environmental Assessment/Habitat Conservation Plan and Receipt of an Application for a Permit for the Incidental Take of the Golden-cheeked Warbler (Dendroica chrysoparia) During Construction and Operation of a Residential Development on a Portion of the 98-acre Lake of the Woods Property, Travis County, Texas (Luth).

SUMMARY: Thomas Luth (Applicant) has applied to the U.S. Fish and Wildlife Service (Service) for an incidental take permit pursuant to Section 10(a) of the Endangered Species Act (Act). The Applicant has been assigned permit number TE-029780-0. The requested permit, which is for a period of 30 years, would authorize the incidental take of the endangered golden-cheeked warbler. The proposed take would occur as a result of the construction and operation of a residential development on a portion of the 98-acre Lake of the Woods Property, Travis County, Texas.

An Environmental Assessment/Habitat Conservation Plan (EA/HCP) for the incidental take application has been prepared. A determination of jeopardy to the species or a Finding of No Significant Impact (FONSI) will not be made until at least 60 days from the date of publication of this notice. This notice is provided pursuant to section 10(c) of the Act and National Environmental Policy Act regulations (40 CFR 1506.6).

DATES: Written comments on the application should be received on or before September 5, 2000.

ADDRESSES: Persons wishing to review the application may obtain a copy by writing to the Regional Director, U.S. Fish and Wildlife Service, P.O. Box 1306, Room 4102, Albuquerque, New Mexico 87103. Persons wishing to review the EA/HCP may obtain a copy by contacting Scott Rowin, U.S. Fish and Wildlife Service, 10711 Burnet Road, Suite 200, Austin, Texas 78758 (512/490-0057). Documents will be available for public inspection by written request, by appointment only, during normal business hours (8:00 to 4:30) at the U.S. Fish and Wildlife Service, Austin, Texas. Written data or comments concerning the application and EA/HCP should be submitted to the Field Supervisor, U.S. Fish and Wildlife Service, Austin, Texas, at the above address. Please refer to permit number TE-029780-0 (Luth) when submitting comments.

FOR FURTHER INFORMATION CONTACT: Scott Rowin at the above U.S. Fish and Wildlife Service Office, Austin, Texas.

SUPPLEMENTARY INFORMATION: Section 9 of the Act prohibits the “taking” of endangered species such as the Houston toad. However, the Service, under limited circumstances, may issue permits to take endangered wildlife species incidental to, and not the purpose of, otherwise lawful activities. Regulations governing permits for endangered species are at 50 CFR 17.22.

Applicant: Tom Luth plans to construct a residential development on 89.5 acres of the 98-acre Lake of the Woods Property, Travis County, Texas. This action will eliminate 89.5 acres and indirectly impact 32.5 additional acres of golden-cheeked warbler habitat. The applicant proposes to compensate for this incidental take of the golden-cheeked warbler by purchasing 286.8 acres worth of participation certificates from the Balcones Canyonlands Preserve, providing approximately $1,147,200 to the BCP for the specific purpose of land acquisition and management within golden-cheeked warbler habitat in Travis County, as identified by the Service.

Nancy M. Kaufman,
Regional Director, Region 2, Albuquerque, New Mexico.

[FR Doc. 00-17229 Filed 7-6-00; 8:45 am]

BILLING CODE 4510-55-P